COMMODITY FUTURES TRADING COMMISSION

Agency Information Collection Activities Under OMB Review: Proposed Collection; Comment Request: Part 41 Relating to Security Futures Products

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden.

DATES: Comments must be submitted on or before December 20, 2010.

FOR FURTHER INFORMATION OR A COPY CONTACT: David Steinberg, Commodity Futures Trading Commission, 202-418-5102, FAX: 202-418-5527, e-mail: dsteinberg@cftc.gov, and refer to OMB Control No. 3038-0059.

SUPPLEMENTARY INFORMATION: Title: Part 41 Relating to Security Futures Products (OMB Control No. 3038-0059). This is a request for extension of a currently approved information collection.

Abstract: Section 4d(c) of the Commodity Exchange Act (CEA), 7 U.S.C. 6d(c), requires the CFTC to consult with the SEC and issue such rules, regulations, or orders as are necessary to avoid duplicative or conflicting regulations applicable to firms that are fully registered with the SEC as brokers or dealers (broker-dealers) and the CFTC as futures commission merchants (FCMs) involving provisions of the CEA that pertain to the treatment of customer funds. The CFTC, jointly with the SEC, issued regulations requiring such dually-registered firms to make choices as to how its customers' transactions in security futures products (SFP) will be treated, either as securities transactions held in a securities account or as futures transactions held in a futures account. How an account is treated is important in the unlikely event of the insolvency of the firm. Only securities accounts receive insurance protection under provisions of the Securities Investor Protection Act. By contrast, only futures accounts are subject to the protections provided by the segregation requirements of the CEA.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on September 16, 2010 (75 FR 56511).

Burden Statement: The respondent burden for this collection is estimated to average .59 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: 147.

Estimated number of responses: 2,739.90.

Estimated total annual burden on respondents: 1,624.08 hours.

Frequency of collection: On occasion.

Send comments regarding the burden estimated or any other aspect of the information collection, including suggestions for reducing the burden, to the addresses listed below. Please refer to OMB Control No. 3038-0059 in any correspondence.

David Steinberg, Special Counsel, Division of Market Oversight, U.S. Commodity Futures Trading Commission, 1155 21st Street, NW., Washington, DC 20581, and Office of Information and Regulatory Affairs, Office of Management and Budget, Attention: Desk Officer for CFTC, 725 17th Street, Washington, DC 20503.

Dated: November 15, 2010.
Sauntia S. Warfield,
Assistant Secretary of the Commission.

Part 41—Security Futures Products
[OMB Collection #3038-0059]
| Estimated number of respondents or recordkeepers per year | Reports annually by each respondent | Total annual responses | Estimated average number of hours per response | Estimated total number of hours of annual burden in fiscal year
Reporting:
41.3 Application for exemption by intermediaries | 5 | 1 | 5 | 25,000 | 125
41.23(a)(1)-(5) Listing of SFPs | 3 | 20 | 60 | 4 | 240
41.23(a)(6) and 41.24(a)(5) | 3 | 25 | 75 | .033 | 2.48
41.23(a)(7) and 41.24(a)(6) | 3 | .30 | .90 | 4 | 3.6
41.23(a)(1) Reporting of data | 3 | 20 | 60 | 1 | 60
41.27(c) Rules prohibiting exemptions | 1 | 1 | 1 | 4 | 4
41.27(e) Rules permitting exemptions | 1 | 1 | 1 | 4 | 4
41.31 SFPCM designation (one time only) | 1 | 1 | 1 | 5 | 5
41.32 SFPCM continuing obligations | 3 | 20 | 60 | 4 | 240
41.33 Application for exemption by SFPCM | 1 | 1 | 1 | 40 | 40
41.41 FCM/B-D disclosure | 60 | 40 | 2,400 | .25 | 600
41.49 Margin rule changes | 3 | 5 | 15 | 4 | 60
Subtotal Reporting Requirements | 87 |  | 2,679.90 |  | 1,384.08
Recordkeeping:
41.41(a)(2) Handling of customer accounts | 60 | 1 | 60 | 4 | 240
Subtotal Recordkeeping Requirements | 60 | 1 | 60 | 4 | 240
Total Reporting and Recordkeeping | 147 |  | 2,739.90 | 0.592 | 1,624.08

[FR Doc. 2010-29232 Filed 11-18-10; 8:45 am]

BILLING CODE P